OFFICE OF THE UNITED STATES TRADE REPRESENTATIVE

[Docket No. USTR-2019-0003]

Technical Adjustments to Section 301 Action: Enforcement of U.S. WTO Rights in Large Civil Aircraft Dispute

AGENCY: Office of the United States Trade Representative.

ACTION: Notice of technical adjustments.

SUMMARY: In a notice published on October 9, 2019 (October 9th Notice), the U.S. Trade Representative determined to take action in this 301 investigation in the form of additional duties on products of certain member States of the European Union, effective October 18, 2019. This Notice makes technical changes in order to implement the intended scope of the action, and to correct other errors.

DATES: The technical changes as set out in Annex A to this Notice are applicable with respect to products that are entered for consumption, or withdrawn from warehouse for consumption, on or after 12:01 a.m. eastern daylight time on October 18, 2019.

FOR FURTHER INFORMATION CONTACT: For questions about this notice, contact Assistant General Counsel Megan Grimball, (202) 395-5725. For questions on customs classification of products covered by this action, contact Traderemedy@cbp.dhs.gov.

SUPPLEMENTARY INFORMATION: For background on the proceedings in this investigation, please see the prior notices issued in the investigation including 84 FR 15028 (April 12, 2019), 84 FR 32248 (July 5, 2019), and 84 FR 54245 (October 9, 2019).

In the October 9th notice (84 FR 54245), the U.S. Trade Representative announced his determination to impose additional duties on products of certain member States of the European Union, effective October 18, 2019. For certain products defined in Annex A of October 9th notice, the determination included a decision to impose additional duties on only a subset of products within specified subheadings of the Harmonized Tariff Schedule of the United States (HTSUS).

To address technical limitations in the administration of the additional duties on a portion of products of a covered subheading, Paragraph 1 of Annex A of this Notice creates additional Chapter 99 numbers to identify the portion of the subheadings not covered by the October 9 action. Paragraph 2 of Annex A makes conforming changes to account for the creation of the additional Chapter 99 numbers. Customs and Border Protection will issue instructions on entry guidance and implementation.

Paragraph 3 of Annex A to this Notice removes one subheading, which had been included due to a clerical error, from the list of subheadings in Annex A of the October 9th Notice.

Paragraph 4 of Annex A to this Notice corrects typographical errors in U.S. Note 21 (m) to subchapter III of Chapter 99, as set out in Annex A of the October 9th Notice.

Paragraph 5 of the Annex A to this Notice corrects the article of description for 9903.89.05 as set out in Annex A of the October 9th Notice.

Annex B contains the list of tariff subheadings, with unofficial descriptions, covered by the October 9th action as amended by this Notice.

Joseph Barloon,
General Counsel, Office of the U.S. Trade Representative.

BILLING CODE 3290-F0-P

[FR Doc. 2019-22902 Filed 10-16-19; 4:15 pm]

BILLING CODE 3290-F0-C